NUCLEAR REGULATORY COMMISSION

10 CFR Chapter I

[NRC-2017-0214]

Retrospective Review of Administrative Requirements

AGENCY: Nuclear Regulatory Commission.

ACTION: Request for comment.

SUMMARY: The U.S. Nuclear Regulatory Commission (NRC) is conducting a retrospective review of administrative requirements to identify outdated or duplicative administrative requirements that may be eliminated without an adverse effect on public health or safety, common defense and security, protection of the environment, or regulatory efficiency and effectiveness. The NRC is requesting input from its licensees and members of the public on any administrative requirements that may be outdated or duplicative in nature. The NRC will use five criteria to evaluate any public input under this retrospective review of administrative requirements initiative for possible revision or elimination to reduce burden on regulated entities and the NRC.

DATES: Submit comments by April 6, 2020. Comments received after this date will be considered if it is practical to do so, but the NRC is able to ensure consideration only for comments received on or before this date. The NRC will not prepare written responses to each individual comment but will consider the comments in completing the retrospective review.

ADDRESSES: You may submit comments by any of the following methods:

• Federal Rulemaking Website: Go to https://www.regulations.gov and search for Docket ID NRC-2017-0214. Address questions about NRC dockets to Carol Gallagher; telephone: 301-415-3463; email: Carol.Gallagher@nrc.gov. For technical questions contact the individuals listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Andrew Carrera, telephone: 301-415-1078; email: Andrew.Carrera@nrc.gov or Pamela Noto, telephone: 301-415-6795; email: Pamela.Noto@nrc.gov. Both are staff of the Office of Nuclear Material Safety and Safeguards, U.S. Nuclear Regulatory Commission, Washington, DC 20555-0001.

SUPPLEMENTARY INFORMATION:

I. Obtaining Information and Submitting Comments

A. Obtaining Information

Please refer to Docket ID NRC-2017-0214 when contacting the NRC about the availability of information for this action. You may obtain publicly available information related to this action by any of the following methods:

• Federal Rulemaking Website: Go to https://www.regulations.gov and search for Docket ID NRC-2017-0214.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O1-F21, One White Flint North, 11555 Rockville Pike, Rockville, Maryland 20852.

B. Submitting Comments

Please include Docket ID NRC-2017-0214 in your comment submission.

The NRC cautions you not to include identifying or contact information that you do not want to be publicly disclosed in your comment submission. The NRC will post all comment submissions at https://www.regulations.gov and will enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

On August 11, 2017, the NRC issued a press release, “NRC To Review Its Administrative Regulations,” to announce that in the fall of 2017, the agency would be initiating a retrospective review of its administrative regulations to identify those rules that are outdated or duplicative. The goal of the review is to optimize the management and administration of regulatory activities and to ensure that the agency's regulations remain current and effective. The review is intended to identify regulatory changes that are administrative in nature that will make information submission, recordkeeping, and reporting processes more efficient for the NRC, applicants, and regulated entities. The strategy takes into consideration the agency's overall statutory responsibilities, including mandates to issue new regulations, the number of regulations in chapter I of title 10 of the Code of Federal Regulations (10 CFR), and available resources. Once identified, the regulations will be evaluated to determine whether they may be revised or eliminated without impacting the agency's mission.

On May 3, 2018 (83 FR 19464), the NRC published a Federal Register notice (FRN) seeking public comment on draft criteria the NRC would use to evaluate potential changes to regulations under the retrospective review. The FRN also discussed the process the NRC would use to conduct the review of administrative requirements. On May 31, 2018, during the public comment period for the draft criteria, the NRC conducted a public meeting to discuss the effort and the draft criteria. Participants included industry representatives, members of the public, and NRC staff. Additional information on this meeting can be found in the meeting summary listed in the Availability of Documents section of this document.

The NRC received six public comments and considered them in the final evaluation criteria provided to the Commission for review and approval in COMSECY-18-0027, “Evaluation Criteria for Retrospective Review of Administrative Regulations,” dated November 16, 2018. Enclosure 1 of COMSECY-18-0027 described changes to the evaluation criteria that resulted from the public comments. In the October 8, 2019, staff requirements memorandum to COMSECY-18-0027, the Commission approved the staff's recommended criteria, which are provided in the Discussion section of this document.

III. Discussion

This document requests input from the public on administrative regulations that the NRC should consider revising or eliminating and announces the final evaluation criteria that the NRC will use as a guideline to evaluate potential changes.

Potential Changes to Administrative Requirements

The NRC is reviewing existing administrative regulations to identify those requirements that may be obsolete or unnecessarily burdensome. In the context of this initiative, the term “burden” refers to labor or monetary costs that regulated entities, the NRC, or both, incur to implement NRC regulations. To guide the scope of this review, the NRC will use the evaluation criteria outlined in the section “Finalized Criteria for Evaluating Potential Changes to Administrative Regulations” in this document. The NRC is requesting public input to identify potential changes to administrative requirements that would be consistent with the evaluation criteria.

To help facilitate a thorough and informed consideration of input, commenters are encouraged to identify the specific requirement that should be considered for revision or elimination, the associated rationale, and an estimate of the burden that would be eliminated or reduced. The NRC is particularly interested in identifying changes to administrative regulations that could have a broad impact and potentially significant reduction in burden. For example, a change to an administrative requirement that impacts multiple regulated entities over a long timeframe will generally be more likely to achieve a significant reduction in burden compared to an administrative requirement that affects a single regulated entity one time.

All comments received that are within the scope of this review will be considered and used, as appropriate, to inform the staff's actions and applicable recommendations to the Commission. This review will only consider existing NRC regulations, so the public should not use this process to submit comments on a proposed rule or recommend new requirements.

Finalized Criteria for Evaluating Potential Changes to Administrative Regulations

The NRC has developed final criteria with which to evaluate potential regulatory changes to be included in the retrospective review. Although the criteria will serve as a useful guideline in identifying administrative requirements that should be considered for modification or elimination, the NRC will also consider programmatic experience, intent of the requirement, impact to the NRC's mission, and overall impact to resources when determining whether to pursue a change to the regulations. The final criteria are:

1. Submittals resulting from routine and periodic recordkeeping and reporting requirements, such as directives to submit recurring reports, which the NRC has not consulted or referenced in programmatic operations or policy development in the last 3 years.

2. Requirements for reports or records that contain information reasonably accessible to the agency from alternative resources, which as a result may be candidates for elimination.

3. Requirements for reports or records that could be modified to result in reduced burden without impacting programmatic needs, regulatory efficiency, or transparency, through: (a) Less frequent reporting, (b) shortened record retention periods, (c) requiring entities to maintain a record rather than submit a report, or (d) implementing another mechanism that reduces burden for collecting or retaining information.

4. Recordkeeping and reporting requirements that result in significant burden.

5. Reports or records that contain information used by other Federal agencies, State and local governments, or Federally recognized Tribes will be dropped from the review provided the information collected is necessary to support the NRC's mission or to fulfill a binding NRC obligation.

IV. Specific Questions

The NRC is providing an opportunity for the public to submit input to help identify administrative regulations for potential modification or elimination that would result in potentially reducing burden on regulated entities, the NRC, or both. The NRC is particularly interested in gathering input on the following questions:

1. Which administrative regulations should the NRC consider changing? Include the 10 CFR part, section, and paragraph(s).

2. How should the NRC change the regulations? Can the regulation be made less burdensome, or should it be eliminated entirely? If possible, provide specific language showing how the regulatory text might be changed to reduce burden. Describe how the evaluation criteria would apply to the proposed change(s).

3. What is the basis for the proposed change? Provide a rationale for why the requirement might be obsolete or overly burdensome and any relevant supporting data.

4. What burden is associated with the administrative requirements? Provide a quantitative basis for the burden in terms of costs or labor hours, if available.

5. How would the suggested change reduce burden? Would it result in a one-time reduction in burden, a reduction in burden for multiple years, or an ongoing reduction in burden? Provide supporting justification.

V. Public Meetings

The NRC plans to hold two public meetings during this public comment period to discuss the request for input. The NRC will publish a notice providing the location, time, and agenda of the future public meetings on https://www.Regulations.gov and on the NRC's public meeting website at least 10 calendar days before each meeting. Stakeholders should monitor the NRC's public meeting website (https://www.nrc.gov/public-involve/public-meetings/index.cfm) for information about the public meetings.

VI. Availability of Documents

The documents identified in the following table are available to interested persons through one or more of the following methods, as indicated.

Document | ADAMS accession No./FR Citation
Press Release No. 17-036, “NRC to Review Its Administrative Regulations,” dated August 11, 2017 | ML17243A126
Federal Register notice, “Review of Administrative Rules,” dated May 3, 2018 | 83 FR 19464
Meeting summary, “Public Meeting to Discuss the NRC's Retrospective Review of Administrative Requirements,” dated May 31, 2018 | ML18170A135
COMSECY-18-0027, “Evaluation Criteria for Retrospective Review of Administrative Regulations,” dated November 16, 2018 | ML18227A120
Enclosure 1 of COMSECY-18-0027, “Changes to the Evaluation Criteria for the Retrospective Review of Administrative Regulations as a Result of Public Comments,” dated November 16, 2018 | ML18261A173
Staff Requirements Memorandum to COMSECY-18-0027, “Evaluation Criteria for Retrospective Review of Administrative Regulations,” dated October 8, 2019 | ML19281C697

The NRC may post documents related to this initiative, including public comments, on the Federal Rulemaking website at https://www.regulations.gov under Docket ID NRC-2017-0214. The Federal Rulemaking website allows you to receive alerts when changes or additions occur in a docket folder. To subscribe: (1) Navigate to the docket folder (NRC-2017-0214); (2) click the “Sign up for Email Alerts” link; and (3) enter your email address and select how frequently you would like to receive emails (daily, weekly, or monthly).

Dated at Rockville, Maryland, this 22nd day of January, 2020.
For the Nuclear Regulatory Commission.
Margaret M. Doane,
Executive Director for Operations.

[FR Doc. 2020-02025 Filed 2-3-20; 8:45 am]

BILLING CODE 7590-01-P